DEPARTMENT OF AGRICULTURE

Submission for OMB Review; Comment Request

February 16, 2021.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by March 22, 2021. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service (NASS)

Title: National Conservation Practice Adoption Motivations Pilot Survey.

OMB Control Number: 0535-0264.

Summary of Collection: The primary objectives of the National Agricultural Statistics Service (NASS) are to prepare and issue official State and national estimates of crop and livestock production, disposition and prices, economic statistics, and environmental statistics related to agriculture and to conduct the Census of Agriculture and its follow-on surveys. NASS will conduct a survey of select agricultural operations in four States: Nebraska, Oklahoma, Oregon, and Pennsylvania. Each selected farmer or rancher will be asked to provide data on practice, technical assistance, financial assistance, as well as obtain likert question data about motivations for each of the topic areas: (1) Cover crops, (2) nutrient management, (3) pest management, (4) tillage practices, (5) drainage water management, (6) runoff management practices, (7) edge of field improvements, (8) wetland conservation practices, and (9) irrigation management and system improvements, General authority for these data collection activities is granted under U.S.C. Title 7, Section 2204.

Need and Use of the Information: The purpose of the survey is to target operations who own or operate cropland, grazing land, concentrated livestock feeding operations, and forestry. NASS will collect information about these types of operations to understand conservation practices within the United States in terms of the following: (1) How often are specific conservation practices adopted without assistance, with technical assistance and/or financial assistance. (2) How does adoption evolve over time? What proportion of producers who “try” a given practice continue or expand use over time? How many discontinue the practice? (3) What motivates farmers to initially try a practice and then continue, expand, or discontinue use? The questions reflect a range of factors including conservation need, experience of neighbors, financial benefits or costs, producer time and effort, availability of technical and financial assistance, regulation or conservation compliance, and concern about the environmental quality. The United States Department of Agriculture's Natural Resources Conservation Service has entered into an interagency agreement with NASS to conduct this pilot survey. If this pilot is successful, NASS will submit a separate request to conduct the national survey.

Description of Respondents: A sample of all active operations who own or operate cropland, grazing land, concentrated livestock feeding operations, and/or forestry in Nebraska, Oklahoma, Oregon, and Pennsylvania.

Number of Respondents: 1,400.

Frequency of Responses: Reporting: Once.

Total Burden Hours: 974.

Levi S. Harrell,
Departmental Information Collection Clearance Officer.

[FR Doc. 2021-03371 Filed 2-18-21; 8:45 am]

BILLING CODE 3410-20-P